EXPORT-IMPORT BANK OF THE U.S.

[Public Notice 68]

Agency Information Collection Activities: Submission for OMB Review; Comment Request

AGENCY: Export-Import Bank of the U.S.

ACTION: Notice and request for comments.

SUMMARY: The Export-Import Bank, as a part of its continuing effort to reduce paperwork and respondent burden, invites the general public and other Federal agencies to comment on the proposed information collection, as required by the Paperwork Reduction Act of 1995.

DATES: Written comments should be received on or before January 6, 2005.

ADDRESSES: Direct all comments to David Rostker, Office of Management and Budget, Office of Information and Regulatory Affairs, NEOB, Room 10202, Washington, DC 20503 (202) 395-3897.

SUPPLEMENTARY INFORMATION: Title and Form Number: Ex-Im Bank Letter of Interest Application, EIB Form 95-9.

OMB Number: 3048-0005.

Need and Use: The information requested enables the applicant to provide Ex-Im Bank with the information necessary to determine eligibility for an indicative offer of support under the loan and guarantee programs.

Affected Public: Business and other for-profit institutions.

Respondents: Entities involved in the provision of financing or arranging of financing for foreign buyers of U.S. exports.

Estimated Annual Respondents: 500.

Estimated Time per Respondent: 20 Minutes.

Estimated Annual Burden: 165.

Frequency of Response: When applying for a Letter of Interest.

Dated: November 30, 2004.
Solomon Bush,
Agency Clearance Officer.

BILLING CODE 6690-01-M

[FR Doc. 04-26679 Filed 12-6-04; 8:45 am]

BILLING CODE 6690-01-C